DEPARTMENT OF ENERGY

10 CFR Parts 429 and 431

[EERE-2023-BT-CE-0001]

RIN 1904-AF97

Energy Conservation Program for Appliance Standards: Certification Requirements, Labeling Requirements, and Enforcement Provisions for Certain Consumer Products and Commercial Equipment

AGENCY: Office of Energy Efficiency and Renewable Energy, Department of Energy.

ACTION: Final rule; Congressional Review Act (CRA) revocation.

SUMMARY: The U.S. Department of Energy (DOE) is publishing this final rule to rescind and amend the certification provisions, labeling requirements, and enforcement provisions for specific types of consumer products and commercial and industrial equipment addressed in its final rule published in the Federal Register on October 9, 2024. DOE is undertaking this action because the October 9, 2024 final rule was the subject of a joint resolution of disapproval under the Congressional Review Act (CRA), which was passed by the U.S. House of Representatives and the Senate and subsequently signed by the President on May 9, 2025, after which it became law. Because the October 9, 2024 final rule has no force or effect, DOE has a nondiscretionary duty to remove the associated provisions from the Code of Federal Regulations (CFR), and through this final rule, DOE is taking the necessary action to effect such rescission.

DATES: The effective date of this rule is September 9, 2025. The incorporation by reference of certain material listed in the rule is approved by the Director of the Federal Register as of December 17, 2012.

FOR FURTHER INFORMATION CONTACT:

Mr. Troy Watson, U.S. Department of Energy, Office of Energy Efficiency and Renewable Energy, Building Technologies Program, EE-2J, 1000 Independence Avenue SW, Washington, DC 20585-0121. Telephone: (240) 449-9387. Email: ApplianceStandardsQuestions@ee.doe.gov.

Mr. Eric Stas, U.S. Department of Energy, Office of the General Counsel, GC-33, 1000 Independence Avenue SW, Washington, DC 20585-0121. Telephone: (202) 586-4798. Email: Eric.Stas@hq.doe.gov.

SUPPLEMENTARY INFORMATION: DOE is reinstating a previously approved incorporation by reference for the following industry standard into 10 CFR part 429:

Association of Home Appliance Manufacturers (AHAM) ANSI/AHAM Standard DW-1-2010, (ANSI/AHAM DW-1-2010), “Household Electric Dishwashers,” ANSI approved September 18, 2010.

Copies of ANSI/AHAM DW-1-2010 may be purchased from AHAM at 1111 19th Street NW, Suite 402, Washington, DC 20036, or by going to www.aham.org.

See section V.M of this document for further discussion of this standard.

Table of Contents

I. Authority and Background

II. Amendments To Codify the Act in the CFR

III. Conforming Amendments to the Ceiling Fan Test Procedure

IV. Final Action

V. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Review Under Section 32 of the Federal Energy Administration Act of 1974

M. Description of Materials Incorporated by Reference

N. Congressional Notification

I. Authority and Background

Among other things, the Energy Policy and Conservation Act (EPCA), Public Law 94-163 (42 U.S.C. 6291-6317, as codified), authorizes DOE to regulate the energy efficiency of a number of consumer products and certain industrial equipment.¹ Title III, Part B ² of EPCA established the Energy Conservation Program for Consumer Products Other Than Automobiles, which sets forth a variety of provisions designed to improve energy efficiency. Title III, Part C³ of EPCA,³ added by Public Law 95-619, Title IV, section 441(a), established the Energy Conservation Program for Certain Industrial Equipment, which sets forth a variety of provisions designed to improve energy efficiency. These products and equipment include central air conditioners and heat pumps (CAC/HPs), dishwashers (DWs), residential clothes washers (RCWs), pool heaters, dehumidifiers, external power supplies (EPSs), battery chargers, computer room air conditioners (CRACs), direct-expansion dedicated outdoor air systems (DX-DOASes), air-cooled, three-phase, small commercial package air conditioners and heat pumps with a cooling capacity of less than 65,000 Btu/h (“three-phase, less than 65,000 Btu/h ACUACs and ACUHPs”) and air-cooled, three-phase variable refrigerant flow air conditioners and heat pumps with a cooling capacity of less than 65,000 Btu/h (“three-phase, less than 65,000 Btu/h VRF”), commercial water heating equipment (CWHs), automatic commercial ice makers (ACIMs), walk-in coolers and walk-in freezers (“walk-ins”), commercial and industrial pumps, portable air conditioners (“portable ACs”), compressors, dedicated-purpose pool pump motors (DPPPMs), air cleaners, single package vertical units (SPVUs), and ceiling fan light kits (CFLKs), all of which are subjects of this document. (42 U.S.C. 6292(a)(3), (6-7), (11), and (20); 42 U.S.C. 6295 (u), (cc), and (ff); 42 U.S.C. 6311(1)(A-D), (F-G), (K), and (2)(B)(i)).

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

³ For editorial reasons, upon codification in the U.S. Code, Part C was redesignated Part A-1.

On October 9, 2024, DOE published a final rule in the Federal Register to establish and amend the certification provisions, labeling requirements, and enforcement provisions for the specific types of consumer products and commercial and industrial equipment previously mentioned, as well as making a number of additional corrections and revising certification templates. 89 FR 81994 (“October 2024 final rule”). The changes made by the October 2024 final rule were summarized at pages 81996-82003 of that document and further discussed and implement elsewhere in that final rule (see 89 FR 81994, 81996-82003 (Oct. 9, 2024)). The rule became effective on December 23, 2024.

For products or equipment for which this rule establishes the initial certification regulations for certifying compliance with new or amended standards, the October 2024 final rule required manufacturers to submit the initial certification report for basic models distributed in commerce beginning May 7, 2025. For basic models with existing certification regulations, October 2024 final rule's amendments to the reporting requirements for certifying compliance with existing standards were mandatory beginning with the annual certification report submitted on or after May 7, 2025.

However, on February 12, 2025, House Joint Resolution 42 (H.J.Res. 42) was introduced pursuant to the Congressional Review Act (CRA; 5 U.S.C. 801-808), and the measure sought to disapprove DOE's October 2024 final rule. The joint resolution of disapproval passed the House of Representatives on March 5, 2025, and it passed the Senate on April 30, 2025. It was sent to the President on May 6, 2025, and it was signed on May 9, 2025, thereby becoming Pub. L. 119-8. Accordingly, it proclaimed the October 2024 final rule as having no force or effect.

Because of the October 2024 final rule's nullification under the CRA, DOE has a non-discretionary duty to remove the relevant provision contained in that final rule from the CFR. This final rule takes the necessary steps to effect such rescission.

II. Amendments To Codify the Act in the CFR

In this final rule, DOE is rescinding and amending numerous provisions in 10 CFR parts 429 and 431 in order to comply with the requirements of Pub. L. 119-8, which, pursuant to the CRA, disapproved and caused DOE's October 9, 2024 final rule to have no force or effect. Accordingly, DOE is taking action to revert its relevant regulations in the CFR to the version in effect prior to promulgation of the October 9, 2024 final rule. Table II.1 outlines the changes made in that rule which are being rescinded in this final rule.

Table II.1—Summary of October 9, 2024 Final Rule Changes to Certification Reporting Requirements Relative to Prior Certification Reporting Requirements
Prior DOE certification reporting requirements | October 9, 2024 final rule amended certification reporting requirements
For CAC/HPs, no reporting requirement to indicate whether variable speed coil-only rating is based on non-communicating or communicating control system. | Added reporting requirement to § 429.16(e)(2)(vi) to specify whether variable speed coil-only rating is based on non-communicating or communicating control system.
For CAC/HPs, no reporting requirement to indicate whether system varies blower speeds with outdoor air conditions. | Added reporting requirement to § 429.16(e)(4)(iv) to specify whether system varies blower speeds with outdoor air conditions.
For CAC/HPs, current sampling requirements state to use Student's t-Distribution Values from “Appendix D,” whereas appendix A to subpart B of part 429 contains the applicable Student's t-Distribution Values. | Corrected § 429.16(b)(3)(i)(B), (ii)(B), and (iii)(A)(2) to specify that the Student's t-Distribution Values in appendix A to subpart B of part 429 should be used.
For DWs, reporting requirements in § 429.19(b)(2) and (3) and list of materials incorporated by reference in § 429.4 specify ANSI/AHAM DW-1-2010. | Removed referenced standard in § 429.19(b)(2) and from the list of materials incorporated by reference in § 429.4.
For DWs, reporting requirements do not include cycle selected for energy test. | Added reporting requirements for cycle selected for energy test at heavy, medium, and light soil loads, whether the cycles are soil-sensing, and the options selected for the energy test at these soil loads (when testing in accordance with appendix C2) to § 429.19(b)(3)(iv).
For DWs, reporting requirements do not include cleaning index. | Added reporting requirement for average cleaning index of sensor heavy response, sensor medium response, and sensor light response test cycles (when testing in accordance with appendix C2) to § 429.19(b)(3)(v).
For DWs, reporting requirements do not reflect water re-use system DWs. | Added reporting requirements specific to water re-use system DWs to § 429.19(b)(3)(vii), including energy use and water use associated with drain out and clean out events.
For DWs, reporting requirements do not reflect information needed for DWs with built-in reservoirs. | Added reporting requirements specific to DWs with built-in reservoirs to § 429.19(b)(3)(viii), including reservoir capacity, prewash and main wash fill water volume, and total water consumption.
For DWs, no rounding requirements are specified in § 429.19. | Added rounding requirements to § 429.19(c).
For RCWs, reporting requirements include outdated requirements associated with appendix J1. | Removed obsolete appendix J1 RCW reporting requirements from § 429.20(b)(2)(i).
For RCWs, “capacity” is required to be reported. | Updated existing requirement to specify “clothes container capacity” rather than “capacity” at § 429.20(b)(2)(ii).
For RCWs, reporting requirements do not include test cloth lot used by manufacturer for testing and certifying. | Added reporting requirement to § 429.20(b)(3) for test cloth lot number used during testing to determine other reported values.
For RCWs, no reporting requirements for RCWs tested in accordance with appendix J test procedure. | Added reporting requirements for energy efficiency ratio, water efficiency ratio, type of control system, remaining moisture content, clothes container capacity, and type of loading when certifying in accordance with appendix J to § 429.20(b)(2)(i).
For pool heaters, reporting requirement only includes thermal efficiency for gas-fired pool heaters. | Added reporting requirement for integrated thermal efficiency for both gas-fired and electric pool heaters to § 429.24(b)(2)(i).
For electric pool heaters, no reporting requirement for active electrical power. | Added reporting requirement for active electrical power for electric pool heaters to § 429.24(b)(2)(ii).
For dehumidifiers, reporting requirements include outdated requirements associated with appendix X. | Removed obsolete appendix X dehumidifier reporting requirements from § 429.36(b)(2)(i).
For EPSs, no reporting requirement for output cord specifications. | Added reporting requirement for output cord effective wire gauge and length (or for EPSs shipped without an output cord, effective wire gauge and length for the manufacturer's recommended output cord) to § 429.37(b)(i)-(iv).
For EPSs, no reporting requirements for output voltage. | Added reporting requirements for output voltage to § 429.37(i) through (iv).
For EPSs exempt from the energy conservation standards, only the number of units of exempt external power supplies sold during the most recent 12-calendar-month period ending on July 31, importer or manufacturer name and address, and brand name must be reported. | Added requirement that the year for which the sales number being reported represents to § 429.37(b)(3) and (c).
For battery chargers, reporting requirements only reflect metrics associated with battery chargers tested in accordance with appendix Y. | Added reporting requirements to § 429.39(b)(5) and (6) for battery chargers tested in accordance with newly adopted appendix Y1, multi-metric approach.
For CRACs, reporting requirements do not include provisions for certifying compliance with net sensible coefficient of performance standards. | Added reporting requirements specific to net sensible coefficient of performance to § 429.43(b)(2)(ix)(B).
For CRACs, reporting requirements do not include provisions for submitting a supplemental testing instructions file in PDF form. | Added supplemental testing instructions file requirements in PDF form for certification reports to § 429.43(b)(4)(viii).
For CRACs, reporting requirements do not include indoor and outdoor unit individual model numbers. | Added reporting requirements for indoor and outdoor unit individual model numbers to § 429.43(b)(6)(i).
For CRACs, current AEDM tolerances do not specify tolerances for NSenCOP verification tests. | Added tolerance of 5 percent to table 2 to § 429.70(c)(5)(vi)(B) for CRAC verification tests for NSenCOP.
For DX-DOASes, reporting requirements do not include provisions for certifying compliance with integrated seasonal moisture removal efficiency 2 and integrated seasonal coefficient of performance 2 standards. | Added reporting requirements for integrated seasonal moisture removal efficiency 2 and integrated seasonal coefficient of performance 2, as well as rated moisture removal capacity, rated supply airflow rate, and configuration of the basic model to § 429.43(b)(2)(xi)(A) through (C).
For DX-DOASes, reporting requirements do not include reporting requirements for systems with ventilation energy recovery systems (“VERS”). | Added reporting requirements for systems with VERS to § 429.43(b)(3)(iii).
For DX-DOASes, reporting requirements do not include provisions for submitting a supplemental testing instructions file in PDF form. | Added supplemental testing instructions file requirements in PDF form for certification reports to § 429.43(b)(4)(x).
For DX-DOASes, reporting requirements do not include indoor and outdoor unit individual model numbers. | Added reporting requirements for indoor and outdoor unit individual model numbers to § 429.43(b)(6)(ii).
For three-phase less than 65,000 Btu/h ACUACs and ACUHPs and three-phase less than 65,000 Btu/h VRF, no reporting requirements for seasonal energy efficiency ratio 2 and heating seasonal performance factor 2. | Added reporting requirements for seasonal energy efficiency ratio 2 and heating seasonal performance factor 2 to § 429.67(f)(2).
For three-phase less than 65,000 Btu/h ACUACs and ACUHPs and three-phase less than 65,000 Btu/h VRF, reporting requirements do not include indoor and outdoor unit individual model numbers. | Added reporting requirements for indoor and outdoor unit individual model numbers to § 429.67(f)(4)).
For three-phase less than 65,000 Btu/h ACUACs and ACUHPs and three-phase less than 65,000 Btu/h VRF, reporting requirements do not include provisions for submitting a supplemental testing instructions file in PDF form for outdoor units with no match. | Added supplemental testing instructions file requirements in PDF form for certification reports for outdoor units with no match to § 429.67(f)(3).
For three-phase less than 65,000 Btu/h ACUACs three-phase less than 65,000 Btu/h VRF, current sampling requirements state to use the Student's t-Distribution Values from “appendix D”, whereas appendix A to subpart B of part 429 contains the applicable Student's t-Distribution Values. | Corrected § 429.67(c)(2)(ii)(A)(2) to specify that the Student's t-Distribution Values in appendix A to subpart B of part 429 should be used.
For CWHs, no reporting requirements for electric instantaneous water heaters. | Added reporting requirements for electric instantaneous water heaters to § 429.44(c)(2)(vi)-(vii).
For CWHs, no rated input reporting requirement for electric storage water heaters. | Added rated input reporting requirement for electric storage water heaters to § 429.44(c)(2)(i).
For ACIMs, reporting requirements include “maximum energy use” and “maximum condenser water use.” | Updated reporting requirement terminology to specify “energy use” and “condenser water use” in § 429.45(b)(2).
For ACIMs, no rounding requirements for represented values specified in 10 CFR 429.45. | Added rounding requirements in § 429.45(b)(3) that specify represented values determined in 10 CFR 429.45 must be rounded consistent with the test procedure rounding instructions upon the compliance date of any amended standards.
For walk-in refrigeration systems, no reporting requirement for whether the basic model meets the definition of a CO2 unit cooler. | Added reporting requirement for whether the basic model meets the definition of a CO2 unit cooler to § 429.53(b)(2)(iii)(G).
For walk-in refrigeration systems, the configuration reporting requirement does not include “detachable single-packaged dedicated system” or “attached split system”. | Modified current configuration reporting requirement in § 429.53(b)(2)(iii)(C) to include “detachable single-packaged dedicated system” and “attached split system”.
For walk-in dedicated condensing systems, no reporting requirement for head pressure controls. | Added reporting requirement in § 429.53(b)(3)(ii) for whether the basic model has head pressure controls.
No supplemental testing instructions for walk-in refrigeration systems. | Added requirement in § 429.53(b)(4) for submission of supplement test information in PDF format, if necessary to run a valid test, at the time of certification.
For walk-in refrigeration systems, no reporting requirement for compressor break-in duration used to obtain certified rating. | Added optional reporting requirement to § 429.53(b)(3)(ii) for compressor break-in duration used to obtain certified rating, if applicable.
For walk-in doors with anti-sweat heater (ASH) controls, no reporting requirements for conditions at which the controls activate the ASH wire. | Added reporting requirements to § 429.53(b)(2)(i)(H) for conditions (i.e., temperature, humidity, etc.) at which the controls activate the ASH wire.
For walk-in doors, no reporting requirement for thermal conduction load through the door. | Added reporting requirement for thermal conduction load through the door to § 429.53(b)(3)(i)(B).
For walk-in panels, date of manufacturer is not required on a panel's nameplate or label. | Required panel manufacture date be added to the nameplate or label in § 431.305(a).
For commercial and industrial pumps, Piⁱⁿ is listed as Pⁱⁿi. | Amended all instances of Pⁱⁿi with Piⁱⁿ.
For portable ACs, reporting requirement for duct configuration lists “ability to operate in both configurations” as an option. | Removed “ability to operate in both configurations” as an option in § 429.62(b)(2) and add reporting requirement for whether model is distributed in commerce with multiple duct configuration options.
For portable ACs, no reporting requirement for full-load seasonally adjusted cooling capacity for variable-speed models. | Added reporting requirements for whether the basic model is variable-speed, and if yes; the full-load seasonally adjusted cooling capacity to § 429.62(b)(3).
For compressors, reporting requirements are included in 10 CFR 429.63, but no annual filing date is specified in 10 CFR 429.12. | Established an annual filing date of September 1 at 10 CFR 429.12(d), by which manufacturers would be required to submit required reporting information to DOE.
For DPPPMs, no reporting requirements outlined in 10 CFR 429.65. | Added reporting requirements for DPPPMs to § 429.65(e).
For DPPPMs, no rounding requirements outlined in 10 CFR 429.65. | Added rounding requirements for DPPPMs to § 429.65(f).
For DPPPMs, no annual filing date specified in 10 CFR 429.12. | Established an annual filing date of September 1 at 10 CFR 429.12(d), by which manufacturers would be required to submit required reporting information to DOE.
For air cleaners, no reporting requirements outlined in 10 CFR 429.68. | Added reporting requirements for air cleaners to § 429.68(b).
For air cleaners, no annual filing date specified in 10 CFR 429.12. | Established an annual filing date of December 1 at 10 CFR 429.12(d), by which manufacturers would be required to submit required reporting information to DOE.
For air cleaners, 10 CFR 429.68(a)(2)(ii) includes a typographical error and states “equal to the high”. | Corrected 10 CFR 429.68(a)(2)(ii) to specify “equal to the lower”.
For SPVUs, reporting requirements do not include provisions for certifying compliance with integrated energy efficiency ratio standards. | Added reporting requirements for certifying compliance with integrated energy efficiency ratio standards to 10 CFR 429.43(b)(2)(v)(B) and (vi)(B).
For SPVUs with cooling capacities less than 65,000 Btu/h, reporting requirements do not include whether the unit is weatherized or non-weatherized, and if non-weatherized, the airflow rate of outdoor ventilation air which is drawn in and conditioned. | Added reporting requirements to 10 CFR 429.43(b)(2)(v)(B) and (vi)(B) for whether the unit is weatherized or non-weatherized, and if non-weatherized, the airflow rate of outdoor ventilation air which is drawn in and conditioned as determined in accordance with 10 CFR 429.134(x)(3), while the equipment is operating with the same drive kit and motor settings used to determine the certified efficiency rating of the equipment.
For SPVUs, existing supplemental testing instruction requirements do not reflect updated integrated energy efficiency ratio test procedure. | Added supplemental testing instruction file content requirements for when certifying compliance with an integrated energy efficiency ratio standard to 10 CFR 429.43(b)(4)(vi)(B) and (vii)(B).
For CFLKs, reporting requirements inadvertently omit CFLKs distributed with consumer-replaceable SSL. | Amended reporting requirements in 10 CFR 429.33(b)(2)(ii)(A) and (b)(3)(ii)(B) to include CFLKs distributed with consumer-replaceable SSL.

III. Final Action

DOE has determined, pursuant to 5 U.S.C. 553(b)(B), that prior notice and an opportunity for public comment on this final rule are unnecessary. Given the applicable statutory requirement enacted by Congress to disapprove the subject October 9, 2024 final rule under the Congressional Review Act, and the absence of any benefit in providing comment given that the rule implements the specific requirements of Public Law 119-8, DOE finds that good cause exists to waive prior notice and an opportunity for public comment on the actions presented in this document to implement the provisions of Public Law 119-8 relevant to the subject consumer products and commercial/industrial equipment. As this rule relieves manufacturers from certain certification, compliance, and enforcement requirements, DOE finds good cause pursuant to 5 U.S.C. 553(d)(1) to waive the 30-day delay in effective date for this rule.

IV. Procedural Issues and Regulatory Review

A. Review Under Executive Order 12866

This final rule is not a “significant regulatory action” under any of the criteria set out in section 3(f) of Executive Order 12866, “Regulatory Planning and Review.” 58 FR 51735 (October 4, 1993). Accordingly, this action was not subject to review by the Office of Information and Regulatory Affairs (OIRA) in the Office of Management and Budget (OMB).

B. Review Under the Regulatory Flexibility Act

The Regulatory Flexibility Act (5 U.S.C. 601 et seq.) requires preparation of a final regulatory flexibility analysis (FRFA) for any final rule where the agency was first required by law to publish a proposed rule for public comment, unless the agency certifies that the rule, if promulgated, will not have a significant economic impact on a substantial number of small entities. As required by Executive Order 13272, “Proper Consideration of Small Entities in Agency Rulemaking,” 67 FR 53461 (August 16, 2002), DOE published procedures and policies on February 19, 2003 to ensure that the potential impacts of its rules on small entities are properly considered during the DOE rulemaking process. 68 FR 7990. DOE has made its procedures and policies available on the Office of the General Counsel's website: https://energy.gov/gc/office-general-counsel. DOE is revising the Code of Federal Regulations to remove certification provisions, labeling requirements, and enforcement provisions adopted in the final rule published in the Federal Register on October 9, 2024, because that final rule has no force or effect pursuant to a joint resolution of disapproval under the Congressional Review Act (Pub. L. 119-8). Because this is a technical amendment for which a general notice of proposed rulemaking is not required, the analytical requirements of the Regulatory Flexibility Act do not apply to this rulemaking.

C. Review Under the Paperwork Reduction Act of 1995

Manufacturers of the subject products and equipment must certify to DOE that their products comply with any applicable energy conservation standards. To certify compliance, manufacturers must first obtain test data for their products according to the DOE test procedures, including any amendments adopted for those test procedures. DOE has established regulations for the certification and recordkeeping requirements for all covered consumer products and commercial equipment. (See generally 10 CFR part 429.) The collection-of-information requirement for the certification and recordkeeping is subject to review and approval by OMB under the Paperwork Reduction Act (PRA). This requirement has been approved by OMB under OMB control number 1910-1400. Public reporting burden for the certification is estimated to average 35 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

Pursuant to the National Environmental Policy Act (NEPA) of 1969, DOE has analyzed this action in accordance with NEPA, as amended, DOE's NEPA implementing regulations (set forth in 10 CFR part 1021), and DOE's NEPA implementing procedures (published outside the Code of Federal Regulations on June 30, 2025). On July 3, 2025, DOE published an interim final rule in the Federal Register which revised 10 CFR part 1021 to contain only administrative and routine actions excepted from NEPA review in appendix A, its existing categorical exclusions in appendix B, related requirements, and a provision for emergency circumstances. 90 FR 29676. DOE notes that appendix A in 10 CFR part 1021 (formerly categorical exclusions) are now administrative and routine actions that do not require NEPA review.

Upon due consideration of those authorities, DOE has determined that NEPA does not apply to this action, as this final rule is an administrative and routine action excepted from NEPA review for the reasons that follow. Because the CRA resolution of disapproved rendered the October 2024 final rule without force or effect, DOE has a non-discretionary duty to remove the relevant provision contained in that final rule from the CFR, and this final rule takes the necessary steps to effect such rescission. Accordingly, DOE has determined that because this action is being taken at the direction of Congress, the rule is an administrative and routine action. DOE had determined that this rulemaking is a Federal action, but it is not a “major Federal action” significantly affecting the quality of the human environment within the meaning of section 110(10) of NEPA, 42 U.S.C. 4336e(10), so no further environmental review is needed. For more information, please see appendix A of 10 CFR part 1021 (“A5, Interpretive rulemakings with no change in environmental effect”) and appendix A of DOE's NEPA implementing procedures, A5, Interpretive rulemakings with no change in environmental effect (June 30, 2025).

E. Review Under Executive Order 13132

Executive Order 13132, “Federalism,” 64 FR 43255 (August 4, 1999), imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE examined this final rule and determined that it will not have a substantial direct effect on the States, on the relationship between the national government and the States, or on the distribution of power and responsibilities among the various levels of government. EPCA governs and prescribes Federal preemption of State regulations as to energy conservation for the products that are the subject of this final rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) eliminate drafting errors and ambiguity; (2) write regulations to minimize litigation; (3) provide a clear legal standard for affected conduct rather than a general standard; and (4) promote simplification and burden reduction. Section 3(b) of Executive Order 12988 specifically requires that Executive agencies make every reasonable effort to ensure that the regulation (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a regulatory action resulting in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at https://energy.gov/gc/office-general-counsel. DOE examined this final rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This final rule will not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights” 53 FR 8859 (March 18, 1988), that this regulation will not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at https://www.energy.gov/sites/prod/files/2019/12/f70/DOE%20Final%20Updated%20IQA%20Guidelines%20Dec%202019.pdf. DOE has reviewed this final rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any significant energy action. A “significant energy action” is defined as any action by an agency that promulgated or is expected to lead to promulgation of a final rule, and that (1) is a significant regulatory action under Executive Order 12866, or any successor order; and (2) is likely to have a significant adverse effect on the supply, distribution, or use of energy; or (3) is designated by the Administrator of OIRA as a significant energy action. For any significant energy action, the agency must give a detailed statement of any adverse effects on energy supply, distribution, or use if the regulation is implemented, and of reasonable alternatives to the action and their expected benefits on energy supply, distribution, and use.

This regulatory action is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977. (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

In this final rule, DOE is reinstating reference to ANSI/AHAM DW-1-2010 as the test method for dishwashers. Because this is a technical amendment for which a general notice of proposed rulemaking is not required and because DOE did not propose the incorporation by reference, section 32 does not apply to this rulemaking.

M. Congressional Notification

As required by 5 U.S.C. 801, DOE will report to Congress on the promulgation of this rule prior to its effective date. The report will state that it has been determined that the rule is not a “major rule” as defined by 5 U.S.C. 804(2).

N. Description of Materials Incorporated by Reference

In this final rule, DOE is reinstating an incorporation by reference (as referenced in the amendatory text of this document) for a testing standard published by the Association of Home Appliance Manufacturers (AHAM) that was previously approved by the Director of the Federal Register as of December 17, 2012 for incorporation in §§ 429.4 and 429.19 for use with the dishwashers test procedure: ANSI/AHAM Standard DW-1-2010 (ANSI/AHAM DW-1-2010), “Household Electric Dishwashers,” ANSI approved September 18, 2010. Copies of ANSI/AHAM DW-1-2010 may be purchased from AHAM at 1111 19th Street NW, Suite 402, Washington, DC 20036, or by going to www.aham.org.

Approval of the Office of the Secretary

The Secretary of Energy has approved publication of this final rule.

List of Subjects

10 CFR Part 429

Administrative practice and procedure, Confidential business information, Energy conservation, Household appliances, Imports, Incorporation by reference, Intergovernmental relations, Reporting and recordkeeping requirements, and Small businesses.

10 CFR Part 431

Administrative practice and procedure, Confidential business information, Energy conservation test procedures, and Reporting and recordkeeping requirements.

Signing Authority

This document of the Department of Energy was signed on September 4, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 5, 2025.
Treena V. Garrett,
Federal Register Liaison Officer, U.S. Department of Energy.

For the reasons stated in the preamble and under the authority of the Congressional Review Act (5 U.S.C. 801-808) and Public Law 119-8, DOE amends parts 429 and 431 of subchapter D of chapter II of title 10, Code of Federal Regulations as set forth below:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317; 28 U.S.C. 2461 note.

2. Amend § 429.4 by redesignating paragraphs (b)(1) and (2) as paragraphs (b)(2) and (3), respectively, and reinstating paragraph (b)(1) to read as follows:

§ 429.4 Materials incorporated by reference.

* * * * *

(b) * * *

(1) ANSI/AHAM DW-1-2010, Household Electric Dishwashers, (ANSI approved September 18, 2010), IBR approved for § 429.19.

* * * * *

3. Amend § 429.12 by reinstating paragraphs (b)(12) and (13), (d), and (i) to read as follows:

§ 429.12 General requirements applicable to certification reports.

* * * * *

(b) * * *

(12) If the test sample size is listed as “0” to indicate the certification is based upon the use of an alternate way of determining measures of energy conservation, identify the method used for determining measures of energy conservation (such as “AEDM,” or linear interpolation). Manufacturers of commercial packaged boilers, commercial water heating equipment, commercial refrigeration equipment, commercial HVAC equipment, and central air conditioners and central air conditioning heat pumps must provide the manufacturer's designation (name or other identifier) of the AEDM used; and

(13) Product specific information listed in §§ 429.14 through 429.63 of this chapter.

* * * * *

(d) Annual filing. All data required by paragraphs (a) through (c) of this section shall be submitted to DOE annually, on or before the following dates:

Table 1 to Paragraph (d)
Product category | Deadline for data submission
Portable air conditioners | February 1.
Fluorescent lamp ballasts; Compact fluorescent lamps; General service fluorescent lamps, general service incandescent lamps, and incandescent reflector lamps; Candelabra base incandescent lamps and intermediate base incandescent lamps; Ceiling fans; Ceiling fan light kits; Showerheads; Faucets; Water closets; and Urinals | March 1.
Water heaters; Consumer furnaces; Pool heaters; Commercial water heating equipment; Commercial packaged boilers; Commercial warm air furnaces; Commercial unit heaters; and Furnace fans | May 1.
Dishwashers; Commercial pre-rinse spray valves; Illuminated exit signs; Traffic signal modules and pedestrian modules; and Distribution transformers | June 1.
Room air conditioners; Central air conditioners and central air conditioning heat pumps; and Commercial heating, ventilating, air conditioning (HVAC) equipment | July 1.
Consumer refrigerators, refrigerator-freezers, and freezers; Commercial refrigerators, freezers, and refrigerator-freezers; Automatic commercial ice makers; Refrigerated bottled or canned beverage vending machines; Walk-in coolers and walk-in freezers; and Consumer miscellaneous refrigeration products | August 1.
Torchieres; Dehumidifiers; Metal halide lamp ballasts and fixtures; External power supplies; Pumps; and Battery chargers. | September 1.
Residential clothes washers; Residential clothes dryers; Direct heating equipment; Cooking products; and Commercial clothes washers | October 1.

* * * * *

(i) Compliance dates. For any product subject to an applicable energy conservation standard for which the compliance date has not yet occurred, a certification report must be submitted not later than the compliance date for the applicable energy conservation standard. The covered products enumerated below are subject to the stated compliance dates for initial certification:

(1) Commercial warm air furnaces, packaged terminal air conditioners, and packaged terminal heat pumps, July 1, 2014;

(2) Commercial gas-fired and oil-fired instantaneous water heaters less than 10 gallons and commercial gas-fired and oil-fired hot water supply boilers less than 10 gallons, October 1, 2014;

(3) All other types of covered commercial water heaters except those specified in paragraph (i)(2) of this section, commercial packaged boilers with input capacities less than or equal to 2.5 million Btu/h, and self-contained commercial refrigeration equipment with solid or transparent doors, December 31, 2014;

(4) Variable refrigerant flow air conditioners and heat pumps, March 31, 2015;

(5) Small, large, and very large air-cooled, water-cooled, evaporatively-cooled, and water-source commercial air conditioning and heating equipment, single package vertical units, computer room air conditioners, commercial package boilers with input capacities greater than 2.5 million Btu/h, and all other types of commercial refrigeration equipment except those specified in paragraph (i)(3) of this section, July 1, 2015.

4. Amend § 429.16 by:

a. Reinstating paragraphs (b)(3)(i)(B), (b)(3)(ii)(B), (b)(3)(iii)(A)(2), and (e)(2)(v);

b. Removing paragraph (e)(2)(vi); and

c. Reinstating paragraph (e)(4)(iv).

The reinstated provisions read as follows:

§ 429.16 Central air conditioners and central air conditioning heat pumps.

* * * * *

(b) * * *

(3) * * *

(i) * * *

(B) The upper 90 percent confidence limit (UCL) of the true mean divided by 1.05, where:

And x̄ is the sample mean; s is the sample standard deviation; n is the number of samples; and t0.90 is the t statistic for a 90 percent one-tailed confidence interval with n−1 degrees of freedom (from appendix D). Round represented values of off-mode power consumption to the nearest watt.

(ii) * * *

(B) The lower 90 percent confidence limit (LCL) of the true mean divided by 0.95, where:

And x̄ is the sample mean; s is the sample standard deviation; n is the number of samples; and t0.90 is the t statistic for a 90 percent one-tailed confidence interval with n−1 degrees of freedom (from appendix D). Round represented values of EER2, SEER2, HSPF2, EER, SCORE, and SHORE to the nearest 0.05.

(iii) * * *

(A) * * *

(2) The lower 90 percent confidence limit (LCL) of the true mean divided by 0.95, where:

And x̄ is the sample mean; s is the sample standard deviation; n is the number of samples; and t0.90 is the t statistic for a 90 percent one-tailed confidence interval with n−1 degrees of freedom (from appendix D).

* * * * *

(e) * * *

(2) * * *

(v) For all split systems including outdoor units with no match, the refrigerant.

* * * * *

(4) * * *

(iv) For blower coil systems, the airflow-control settings associated with full load cooling operation; and the airflow-control settings or alternative instructions for setting fan speed to the speed upon which the rating is based;

* * * * *

5. Amend § 429.19 by removing paragraph (c) and reinstating paragraphs (b)(2) and (3) to read as follows:

§ 429.19 Dishwashers.

* * * * *

(b) * * *

(2) Pursuant to § 429.12(b)(13), a certification report shall include the following public product-specific information: The estimated annual energy use in kilowatt hours per year (kWh/yr), the water consumption in gallons per cycle, and the capacity in number of place settings as specified in ANSI/AHAM DW-1-2010 (incorporated by reference, see § 429.4).

(3) Pursuant to § 429.12(b)(13), a certification report shall include the following additional product-specific information—

(i) The presence of a soil sensor, and if yes, the number of cycles required to reach calibration;

(ii) The water inlet temperature used for testing in degrees Fahrenheit (°F);

(iii) The cycle selected for the energy test and whether that cycle is soil-sensing;

(iv) The options selected for the energy test;

(v) Presence of a built-in water softening system, and if yes, the energy use in kilowatt-hours and the water use in gallons required for each regeneration of the water softening system, the number of regeneration cycles per year, and data and calculations used to derive these values; and

(vi) Indication of whether Cascade Complete Powder or Cascade with the Grease Fighting Power of Dawn was used as the detergent formulation. When certifying dishwashers, other than water re-use dishwashers, according to appendix C1 to subpart B of part 430 of this chapter:

(A) Before July 17, 2023, Cascade Complete Powder detergent may be used as the basis for certification in conjunction with the detergent dosing methods specified in either section 2.5.2.1.1 or section 2.5.2.1.2 of appendix C1 to subpart B of part 430. Cascade with the Grease Fighting Power of Dawn detergent may be used as the basis for certification only in conjunction with the detergent dosing specified in section 2.5.2.1.1 of appendix C1.

(B) Beginning July 17, 2023, Cascade Complete Powder detergent may be used as the basis for certification of newly certified basic models only in conjunction with the detergent dosing method specified in section 2.5.2.1.2 of appendix C1 to subpart B of part 430. Cascade with the Grease Fighting Power of Dawn detergent may be used as the basis for certification only in conjunction with the detergent dosing specified in section 2.5.2.1.1 of appendix C1. Manufacturers may maintain existing basic model certifications made prior to July 17, 2023, consistent with the provisions of paragraph (b)(3)(vi)(A) of this chapter.

6. Amend § 429.20 by reinstating paragraphs (b) and (c) to read as follows:

§ 429.20 Residential clothes washers.

* * * * *

(b) Certification reports. (1) The requirements of § 429.12 are applicable to residential clothes washers; and

(2) Pursuant to § 429.12(b)(13), a certification report shall contain the following public product-specific information:

(i) For residential clothes washers tested in accordance with appendix J1: The modified energy factor (MEF) in cubic feet per kilowatt hour per cycle (cu ft/kWh/cycle), the capacity in cubic feet (cu ft), the corrected remaining moisture content (RMC) expressed as a percentage, and, for standard-size residential clothes washers, a water factor (WF) in gallons per cycle per cubic foot (gal/cycle/cu ft).

(ii) For residential clothes washers tested in accordance with appendix J2: The integrated modified energy factor (IMEF) in cu ft/kWh/cycle, the integrated water factor (IWF) in gal/cycle/cu ft, the capacity in cu ft, the corrected remaining moisture content (RMC) expressed as a percentage, and the type of loading (top-loading or front-loading).

(3) Pursuant to § 429.12(b)(13), a certification report must include the following additional product-specific information: A list of all cycle selections comprising the complete energy test cycle for each basic model.

(c) Reported values. Values reported pursuant to this subsection must be rounded as follows: MEF and IMEF to the nearest 0.01 cu ft/kWh/cycle; WF and IWF to the nearest 0.1 gal/cycle/cu ft; RMC to the nearest 0.1 percentage point; and clothes container capacity to the nearest 0.1 cu ft.

7. Amend § 429.24 by:

a. Reinstating paragraph (a)(2) introductory text;

b. Removing paragraphs (a)(3) and (4);

c. Reinstating paragraph (b)(2); and

d. Removing paragraph (c).

The reinstated provisions read as follows:

§ 429.24 Pool heaters.

(a) * * *

(2) For each basic model of pool heater, a sample of sufficient size shall be randomly selected and tested to ensure that any represented value of the thermal efficiency or other measure of energy consumption of a basic model for which consumers would favor higher values shall be less than or equal to the lower of:

* * * * *

(b) * * *

(2) Pursuant to § 429.12(b)(13), a certification report shall include the following public product-specific information: The thermal efficiency in percent (%) and the input capacity in British thermal units per hour (Btu/h).

8. Amend § 429.33 by reinstating paragraphs (b)(2)(ii)(A) and (b)(3)(ii)(B) to read as follows.

§ 429.33 Ceiling fan light kits.

* * * * *

(b) * * *

(2) * * *

(ii) * * *

(A) For each basic model of lamp and/or each basic model of non-consumer-replaceable SSL packaged with the ceiling fan light kit, the brand, basic model number, test sample size, kind of lamp (i.e., general service fluorescent lamp (GSFL); fluorescent lamp with a pin base that is not a GSFL; compact fluorescent lamp (CFL) with a medium screw base; CFL with a base that is not medium screw base [e.g., candelabra base]; other fluorescent lamp [not GSFL or CFL]; general service incandescent lamp (GSIL); candelabra base incandescent lamp; intermediate base incandescent lamp; incandescent reflector lamp; other incandescent lamp [not GSIL, IRL, candelabra base or intermediate base incandescent lamp]; integrated LED lamp; non-consumer-replaceable SSL; consumer-replaceable SSL [not integrated LED lamps] and other SSL lamps that have an ANSI standard base and are not integrated LED lamps; other lamp not specified), lumen output in lumens (lm), and efficacy in lumens per watt (lm/W).

* * * * *

(3) * * *

(ii) * * *

(B) For each basic model of lamp and/or each basic model of non-consumer-replaceable SSL packaged with the ceiling fan light kit, a declaration that, where applicable, the lamp basic model was tested by a laboratory accredited as required under § 430.25 of this chapter; and

* * * * *

9. Amend § 429.36 by reinstating paragraphs (b)(2)(i) and (b)(2)(ii) to read as follows:

§ 429.36 Dehumidifiers.

* * * * *

(b) * * *

(2) * * *

(i) For dehumidifiers tested in accordance with appendix X: The energy factor in liters per kilowatt hour (liters/kWh) and capacity in pints per day.

(ii) For dehumidifiers tested in accordance with appendix X1: The integrated energy factor in liters per kilowatt (liters/kWh), capacity in pints per day, and for whole-home dehumidifiers, case volume in cubic feet.

10. Amend § 429.37 by reinstating paragraphs (b)(2) and (3) and (c) to read as follows:

§ 429.37 External power supplies.

* * * * *

(b) * * *

(2) Pursuant to § 429.12(b)(13), a certification report shall include the following public product-specific information:

(i) External power supplies: The average active mode efficiency as a percentage (%), no-load mode power consumption in watts (W), nameplate output power in watts (W), and, if missing from the nameplate, the output current in amperes (A) of the basic model or the output current in amperes (A) of the highest- and lowest-voltage models within the external power supply design family.

(ii) Switch-selectable single-voltage external power supplies: The average active mode efficiency as a percentage (%) value, no-load mode power consumption in watts (W) using the lowest and highest selectable output voltages, nameplate output power in watts (W), and, if missing from the nameplate, the output current in amperes (A).

(iii) Adaptive single-voltage external power supplies: The average active-mode efficiency as a percentage (%) at the highest and lowest nameplate output voltages, no-load mode power consumption in watts (W), nameplate output power in watts (W) at the highest and lowest nameplate output voltages, and, if missing from the nameplate, the output current in amperes (A) at the highest and lowest nameplate output voltages.

(iv) External power supplies that are exempt from no-load mode requirements under § 430.32(w)(5) of this chapter: A statement that the product is designed to be connected to a security or life safety alarm or surveillance system component, the average active-mode efficiency as a percentage (%), the nameplate output power in watts (W), and, if missing from the nameplate, the certification report must also include the output current in amperes (A) of the basic model or the output current in amperes (A) of the highest- and lowest-voltage models within the external power supply design family.

(3) Pursuant to § 429.12(b)(13), a certification report for external power supplies that are exempt from the energy conservation standards at § 430.32(w)(1)(ii) pursuant to § 430.32(w)(2) of this chapter must include the following additional information if, in aggregate, the total number of exempt EPSs sold as spare and service parts by the certifier exceeds 1,000 units across all models: The total number of units of exempt external power supplies sold during the most recent 12-calendar-month period ending on July 31, starting with the annual report due on September 1, 2017.

(c) Exempt external power supplies. (1) For external power supplies that are exempt from energy conservation standards pursuant to § 430.32(w)(2) of this chapter and are not required to be certified pursuant to § 429.12(a) as compliant with an applicable standard, the importer or domestic manufacturer must, no later than September 1, 2017, and annually by each September 1st thereafter, submit a report providing the following information if, in aggregate, the total number of exempt EPSs sold as spare and service parts by the importer or manufacturer exceeds 1,000 units across all models:

(i) The importer or domestic manufacturer's name and address;

(ii) The brand name; and

(iii) The number of units sold during the most recent 12-calendar-month period ending on July 31.

(2) The report must be submitted to DOE in accordance with the submission procedures set forth in § 429.12(h).

11. Amend § 429.39 by:

a. Reinstating paragraphs (a)(1), (a)(2)(ii) introductory text, and (a)(2)(iii) introductory text;

b. Removing paragraphs (a)(2)(v) and (vi);

c. Reinstating paragraphs (b)(2) and (3); and

d. Removing paragraphs (b)(5) and (6).

The reinstated provisions read as follows:

§ 429.39 Battery chargers.

(a) * * *

(1) Represented values include: The unit energy consumption (UEC) in kilowatt-hours per year (kWh/yr), battery discharge energy (Ebatt) in watt hours (Wh), 24-hour energy consumption (E24) in watt hours (Wh), maintenance mode power (Pm) in watts (W), standby mode power (Psb) in watts (W), off mode power (Poff) in watts (W), and duration of the charge and maintenance mode test (tcd) in hours (hrs) for all battery chargers other than uninterruptible power supplies (UPSs); and average load adjusted efficiency (Effavg) for UPSs.

(2) * * *

(ii) For each basic model of battery chargers other than UPSs, a sample of sufficient size must be randomly selected and tested to ensure that the represented value of UEC is greater than or equal to the higher of:

* * * * *

(iii) For each basic model of battery chargers other than UPSs, using the sample from paragraph (a)(2)(ii) of this section, calculate the represented values of each metric (i.e., maintenance mode power (Pm), standby power (Psb), off mode power (Poff), battery discharge energy (Ebatt), 24-hour energy consumption (E24), and duration of the charge and maintenance mode test (tcd)), where the represented value of the metric is:

* * * * *

(b) * * *

(2) Pursuant to § 429.12(b)(13), a certification report must include the following product-specific information for all battery chargers other than UPSs: The nameplate battery voltage of the test battery in volts (V), the nameplate battery charge capacity of the test battery in ampere-hours (Ah), and the nameplate battery energy capacity of the test battery in watt-hours (Wh). A certification report must also include the represented values, as determined in paragraph (a) of this section for the maintenance mode power (Pm), standby mode power (Psb), off mode power (Poff), battery discharge energy (Ebatt), 24-hour energy consumption (E24), duration of the charge and maintenance mode test (tcd), and unit energy consumption (UEC).

(3) Pursuant to § 429.12(b)(13), a certification report must include the following product-specific information for all battery chargers other than UPSs: The manufacturer and model of the test battery, and the manufacturer and model, when applicable, of the external power supply.

* * * * *

12. Amend § 429.43 by:

a. Reinstating the section heading and paragraphs (b)(2)(v), (vi), and (ix);

b. Removing paragraphs (b)(2)(xi) and (b)(3)(iii);

c. Reinstating paragraphs (b)(4)(vi) through (viii); and

d. Removing paragraphs (b)(4)(x) and (b)(6).

The reinstated provisions read as follows:

§ 429.43 Commercial heating, ventilating, air conditioning (HVAC) equipment (excluding air-cooled, three-phase, small commercial package air conditioning and heating equipment with a cooling capacity of less than 65,000 British thermal units per hour and air-cooled, three-phase, variable refrigerant flow multi-split air conditioners and heat pumps with less than 65,000 British thermal units per hour cooling capacity).

* * * * *

(b) * * *

(2) * * *

(v) Single package vertical air conditioners: The energy efficiency ratio (EER in British thermal units per Watt-hour (Btu/Wh)) and the rated cooling capacity in British thermal units per hour (Btu/h).

(vi) Single package vertical heat pumps: The energy efficiency ratio (EER in British thermal units per Watt-hour (Btu/Wh)), the coefficient of performance (COP), and the rated cooling capacity in British thermal units per hour (Btu/h).

* * * * *

(ix) Computer room air-conditioners: The net sensible cooling capacity in British thermal units per hour (Btu/h), the net cooling capacity in British thermal units per hour (Btu/h), the configuration (upflow/downflow), economizer presence (yes or no), condenser medium (air, water, or glycol-cooled), sensible coefficient of performance (SCOP), and rated airflow in standard cubic feet per minute (SCFM).

* * * * *

(4) * * *

(vi) Single package vertical air-conditioners: Any additional testing instructions, if applicable; if a variety of motors/drive kits are offered for sale as options in the basic model to account for varying installation requirements, the model number and specifications of the motor (to include efficiency, horsepower, open/closed, and number of poles) and the drive kit, including settings, associated with that specific motor that were used to determine the certified rating; and which, if any, special features were included in rating the basic model.

(vii) Single package vertical heat pumps: Any additional testing instructions, if applicable; if a variety of motors/drive kits are offered for sale as options in the basic model to account for varying installation requirements, the model number and specifications of the motor (to include efficiency, horsepower, open/closed, and number of poles) and the drive kit, including settings, associated with that specific motor that were used to determine the certified rating; and which, if any, special features were included in rating the basic model.

(viii) Computer room air-conditioners: Any additional testing instructions, if applicable; and which, if any, special features were included in rating the basic model.

* * * * *

13. Amend § 429.44 by reinstating paragraph (c)(2) to read as follows:

§ 429.44 Commercial water heating equipment.

* * * * *

(c) * * *

(2) Pursuant to § 429.12(b)(13), a certification report must include the following public equipment-specific information:

(i) Commercial electric storage water heaters with storage capacity less than or equal to 140 gallons: The standby loss in percent per hour (%/h) and the measured storage volume in gallons (gal).

(ii) Commercial gas-fired and oil-fired storage water heaters with storage capacity less than or equal to 140 gallons: The thermal efficiency in percent (%), the standby loss in British thermal units per hour (Btu/h), the rated storage volume in gallons (gal), and the rated input in British thermal units per hour (Btu/h).

(iii) Commercial water heaters and hot water supply boilers with storage capacity greater than 140 gallons: The thermal efficiency in percent (%); whether the storage volume is greater than 140 gallons (Yes/No); whether the tank surface area is insulated with at least R-12.5 (Yes/No); whether a standing pilot light is used (Yes/No); for gas or oil-fired water heaters, whether the basic model has a fire damper or fan-assisted combustion (Yes/No); and, if applicable, pursuant to § 431.110 of this chapter, the standby loss in British thermal units per hour (Btu/h); the measured storage volume in gallons (gal); and the rated input in British thermal units per hour (Btu/h).

(iv) Commercial gas-fired and oil-fired instantaneous water heaters with storage capacity greater than or equal to 10 gallons and gas-fired and oil-fired hot water supply boilers with storage capacity greater than or equal to 10 gallons: The thermal efficiency in percent (%); the standby loss in British thermal units per hour (Btu/h); the rated storage volume in gallons (gal); the rated input in British thermal units per hour (Btu/h); whether the water heater includes a storage tank with a storage volume greater than or equal to 10 gallons (Yes/No). For equipment that does not meet the definition of storage-type instantaneous water heaters (as set forth in 10 CFR 431.102), in addition to the requirements discussed previously in this paragraph (c)(2)(iv), the following must also be included in the certification report: whether the measured storage volume is determined using weight-based test in accordance with § 431.106 of this chapter or the calculation-based method in accordance with § 429.72; whether the water heater will initiate main burner operation based on a temperature-controlled call for heating that is internal to the water heater (Yes/No); whether the water heater is equipped with an integral pump purge functionality (Yes/No); if the water heater is equipped with integral pump purge, the default duration of the pump off delay (minutes).

(v) Commercial gas-fired and oil-fired instantaneous water heaters with storage capacity less than 10 gallons and gas-fired and oil-fired hot water supply boilers with storage capacity less than 10 gallons: The thermal efficiency in percent (%); the rated storage volume in gallons (gal), the rated input in British thermal units per hour (Btu/h); and whether the measured storage volume is determined using weight-based test in accordance with § 431.106 of this chapter or the calculation-based method in accordance with § 429.72.

(vi) Commercial unfired hot water storage tanks: The thermal insulation (i.e., R-value) and stored volume in gallons (gal).

* * * * *

14. Amend § 429.45 by removing paragraph (b)(3) and reinstating paragraph (b)(2) to read as follows:

§ 429.45 Automatic commercial ice makers.

* * * * *

(b) * * *

(2) Pursuant to § 429.12(b)(13), a certification report shall include the following public product-specific information: The maximum energy use in kilowatt hours per 100 pounds of ice (kWh/100 lb ice), the maximum condenser water use in gallons per 100 pounds of ice (gal/100 lbs. ice), the harvest rate in pounds of ice per 24 hours (lbs. ice/24 hours), the type of cooling, and the equipment type.

15. Amend § 429.53 by reinstating paragraph (b) to read as follows:

§ 429.53 Walk-in coolers and walk-in freezers.

* * * * *

(b) Certification reports. (1) The requirements of § 429.12 apply to manufacturers of walk-in cooler and walk-in freezer panels, doors, and refrigeration systems, and;

(2) Pursuant to § 429.12(b)(13), a certification report must include the following public product-specific information:

(i) For doors: The door type, R-value of the door insulation, and a declaration that the manufacturer has incorporated the applicable design requirements. In addition, for those walk-in coolers and walk-in freezers with transparent reach-in doors and windows, the glass type of the doors and windows (e.g., double-pane with heat reflective treatment, triple-pane glass with gas fill), and the power draw of the anti-sweat heater in watts per square foot of door opening must also be included.

(ii) For walk-in cooler and walk-in freezer panels: The R-value of the insulation.

(iii) For walk-in cooler and walk-in freezer refrigeration systems: The installed motor's functional purpose (i.e., evaporator fan motor or condenser fan motor), its rated horsepower, and a declaration that the manufacturer has incorporated the applicable walk-in-specific design requirements into the motor;

(3) Pursuant to § 429.12(b)(13), starting on June 5, 2017, a certification report must include the following public product-specific information in addition to the information listed in paragraph (b)(2) of this section:

(i) For walk-in cooler and walk-in freezer doors: The door energy consumption and rated surface area in square feet.

(ii) For refrigeration systems that are medium-temperature dedicated condensing units, medium-temperature single-package dedicated systems, or medium-temperature matched systems: The refrigeration system AWEF, net capacity, the configuration tested for certification (e.g., condensing unit only, unit cooler only, single-package dedicated system, or matched-pair), and if an indoor dedicated condensing unit is also certified as an outdoor dedicated condensing unit and, if so, the basic model number for the outdoor dedicated condensing unit.

(4) Pursuant to § 429.12(b)(13), starting on June 5, 2017, a certification report must include the following product-specific information in addition to the information listed in paragraphs (b)(2) and (3) of this section:

(i) For walk-in cooler and walk-in freezer doors: the rated power of each light, heater wire, and/or other electricity-consuming device associated with each basic model of display and non-display door; and whether such device(s) has a timer, control system, or other demand-based control reducing the device's power consumption.

(5) When certifying compliance to the AWEF refrigeration standards for WICF refrigeration systems except those specified in (b)(3)(ii) of this section, a certification report must include the following public product-specific information in addition to the information listed in paragraph (b)(2) of this section: For refrigeration systems that are low-temperature dedicated condensing units, low-temperature matched systems, low-temperature single-package dedicated systems, or medium and low-temperature unit coolers: The refrigeration system AWEF, net capacity, the configuration tested for certification (e.g., condensing unit only, unit cooler only, single-package dedicated system, or matched-pair), and if an indoor dedicated condensing unit is also certified as an outdoor dedicated condensing unit and, if so, the basic model number for the outdoor dedicated condensing unit.

16. Amend § 429.59 by reinstating paragraphs (b)(2)(i) through (iii) to read as follows.

§ 429.59 Pumps.

* * * * *

(b) * * *

(2) * * *

(i) For a pump subject to the test methods prescribed in section III of appendix A to subpart Y of part 431 of this chapter: PEICL; pump total head in feet (ft.) at BEP and nominal speed; volume per unit time (flow rate) in gallons per minute (gpm) at BEP and nominal speed; the nominal speed of rotation in revolutions per minute (rpm); calculated driver power input at each load point i (Pini), corrected to nominal speed, in horsepower (hp); full impeller diameter in inches (in.); and for RSV and ST pumps, the number of stages tested.

(ii) For a pump subject to the test methods prescribed in section IV or V of appendix A to subpart Y of part 431 of this chapter: PEICL; pump total head in feet (ft.) at BEP and nominal speed; volume per unit time (flow rate) in gallons per minute (gpm) at BEP and nominal speed; the nominal speed of rotation in revolutions per minute (rpm); driver power input at each load point i (Pini), corrected to nominal speed, in horsepower (hp); full impeller diameter in inches (in.); whether the PEICL is calculated or tested; and for RSV and ST pumps, number of stages tested.

(iii) For a pump subject to the test methods prescribed in section VI or VII of appendix A to subpart Y of part 431 of this chapter: PEIVL; pump total head in feet (ft.) at BEP and nominal speed; volume per unit time (flow rate) in gallons per minute (gpm) at BEP and nominal speed; the nominal speed of rotation in revolutions per minute (rpm); driver power input (measured as the input power to the driver and controls) at each load point i (Pini), corrected to nominal speed, in horsepower (hp); full impeller diameter in inches (in.); whether the PEIVL is calculated or tested; and for RSV and ST pumps, the number of stages tested.

* * * * *

17. Amend § 429.62 by removing paragraph (b)(3) and reinstating paragraphs (a)(5) and (b)(2) to read as follows:

§ 429.62 Portable air conditioners.

(a) * * *

(5) The represented value of combined energy efficiency ratio or annualized energy efficiency ratio of a basic model must be rounded to the nearest 0.1 Btu/Wh.

* * * * *

(b) * * *

(2) Pursuant to § 429.12(b)(13), a certification report shall include the following public product-specific information: The combined energy efficiency ratio (CEER in British thermal units per Watt-hour (Btu/Wh), the seasonally adjusted cooling capacity in British thermal units per hour (Btu/h), the duct configuration (single-duct, dual-duct, or ability to operate in both duct configurations), presence of heating function, and primary condensate removal feature (auto-evaporation, gravity drain, removable internal collection bucket, or condensate pump).

§ 429.65 [Amended]

18. Amend § 429.65 by removing paragraphs (e) and (f).

19. Amend § 429.67 by removing paragraph (f)(4) and by reinstating paragraphs (c)(2)(ii)(A)(2), (f)(2), and (f)(3)(i) and (ii) to read as follows:

§ 429.67 Air-cooled, three-phase, small commercial package air conditioning and heating equipment with a cooling capacity of less than 65,000 British thermal units per hour and air-cooled, three-phase, variable refrigerant flow multi-split air conditioners and heat pumps with a cooling capacity of less than 65,000 British thermal units per hour.

* * * * *

(c) * * *

(2) * * *

(ii) * * *

(A) * * *

(2) The lower 90 percent confidence limit (LCL) of the true mean divided by 0.95, where:

And x̄ is the sample mean; s is the sample standard deviation; n is the number of samples; and t0.90 is the t statistic for a 90 percent one-tailed confidence interval with n−1 degrees of freedom (from appendix D to this subpart).

* * * * *

(f) * * *

(2) Pursuant to § 429.12(b)(13), for each individual model (for single-package systems) or individual combination (for split-systems, including outdoor units with no match and “tested combinations” for multi-split, multi-circuit, and multi-head mini-split systems), a certification report must include the following public equipment-specific information:

(i) Commercial package air conditioning equipment that is air-cooled with a cooling capacity of less than 65,000 Btu/h (3-Phase): The seasonal energy efficiency ratio (SEER in British thermal units per Watt-hour (Btu/Wh)), and the rated cooling capacity in British thermal units per hour (Btu/h).

(ii) Commercial package heating equipment that is air-cooled with a cooling capacity of less than 65,000 Btu/h (3-Phase): The seasonal energy efficiency ratio (SEER in British thermal units per Watt-hour (Btu/Wh)), the heating seasonal performance factor (HSPF in British thermal units per Watt-hour (Btu/Wh)), and the rated cooling capacity in British thermal units per hour (Btu/h).

(iii) Variable refrigerant flow multi-split air conditioners that are air-cooled with rated cooling capacity of less than 65,000 Btu/h (3-Phase): The seasonal energy efficiency ratio (SEER in British thermal units per Watt-hour (Btu/Wh)) and rated cooling capacity in British thermal units per hour (Btu/h).

(iv) Variable refrigerant flow multi-split heat pumps that are air-cooled with rated cooling capacity of less than 65,000 Btu/h (3-Phase): The seasonal energy efficiency ratio (SEER) in British thermal units per Watt-hour (Btu/Wh), the heating seasonal performance factor (HSPF) in British thermal units per Watt-hour (Btu/Wh), and rated cooling capacity in British thermal units per hour (Btu/h).

(3) * * *

(i) Air cooled commercial package air conditioning equipment with a cooling capacity of less than 65,000 Btu/h (3-phase): The nominal cooling capacity in British thermal units per hour (Btu/h); rated airflow in standard cubic feet per minute (SCFM) for each fan coil; rated static pressure in inches of water; refrigeration charging instructions (e.g., refrigerant charge, superheat and/or subcooling temperatures); frequency or control set points for variable-speed components (e.g., compressors, VFDs); required dip switch/control settings for step or variable components; a statement whether the model will operate at test conditions without manufacturer programming; any additional testing instructions, if applicable; if a variety of motors/drive kits are offered for sale as options in the basic model to account for varying installation requirements, the model number and specifications of the motor (to include efficiency, horsepower, open/closed, and number of poles) and the drive kit, including settings, associated with that specific motor that were used to determine the certified rating; and which, if any, special features were included in rating the basic model.

(ii) Commercial package heating equipment that is air-cooled with a cooling capacity of less than 65,000 Btu/h (3-phase): The nominal cooling capacity in British thermal units per hour (Btu/h); rated heating capacity in British thermal units per hour (Btu/h); rated airflow in standard cubic feet per minute (SCFM) for each fan coil; rated static pressure in inches of water; refrigeration charging instructions (e.g., refrigerant charge, superheat and/or subcooling temperatures); frequency or control set points for variable-speed components (e.g., compressors, VFDs); required dip switch/control settings for step or variable components; a statement whether the model will operate at test conditions without manufacturer programming; any additional testing instructions, if applicable; if a variety of motors/drive kits are offered for sale as options in the basic model to account for varying installation requirements, the model number and specifications of the motor (to include efficiency, horsepower, open/closed, and number of poles) and the drive kit, including settings, associated with that specific motor that were used to determine the certified rating; and which, if any, special features were included in rating the basic model.

* * * * *

20. Amend § 429.68 by reinstating paragraph (a)(2)(ii) introductory text and removing and reserving paragraph (b) to read as follows:

§ 429.68 Air cleaners.

(a) * * *

(2) * * *

(ii) Any represented value of the integrated energy factor or other measure of energy consumption of a basic mode for which consumers would favor higher values shall be less than or equal to the high:

* * * * *

(b) [Reserved]

21. Amend § 429.70 by reinstating table 2 to paragraph (c)(5)(vi)(B) to read as follows:

§ 429.70 Alternative methods for determining energy efficiency and energy use.

* * * * *

(c) * * *

(5) * * *

(vi) * * *

(B) * * *

Table 2 to Paragraph (c)(5)(vi)(B)
Equipment | Metric | Applicable tolerance
Commercial Packaged Boilers | Combustion Efficiency Thermal Efficiency Thermal Efficiency | 5% (0.05) 5% (0.05) 5% (0.05)
Commercial Water Heaters or Hot Water Supply Boilers | Standby Loss | 10% (0.1)
Unfired Storage Tanks | R-Value | 10% (0.1)
Air-Cooled, Split and Packaged ACs and HPs Greater Than or Equal to 65,000 Btu/h Cooling Capacity and Less Than 760,000 Btu/h Cooling Capacity | Energy Efficiency Ratio Energy Efficiency Ratio 2 Coefficient of Performance Coefficient of Performance 2 Integrated Energy Efficiency Ratio Integrated Ventilation, Economizing, and Cooling Integrated Ventilation and Heating Efficiency | 5% (0.05) 5% (0.05) 5% (0.05) 5% (0.05) 10% (0.1) 10% (0.1) 10% (0.1)
Water-Cooled, Split and Packaged ACs, All Cooling Capacities | Energy Efficiency Ratio Energy Efficiency Ratio 2 Integrated Energy Efficiency Ratio Integrated Ventilation, Economizing, and Cooling | 5% (0.05) 5% (0.05) 10% (0.1) 10% (0.1)
Evaporatively-Cooled, Split and Packaged ACs, All Capacities | Energy Efficiency Ratio Energy Efficiency Ratio 2 Integrated Energy Efficiency Ratio Integrated Ventilation, Economizing, and Cooling | 5% (0.05) 5% (0.05) 10% (0.1) 10% (0.1)
Water-Source HPs, All Capacities | Energy Efficiency Ratio Coefficient of Performance Integrated Energy Efficiency Ratio | 5% (0.05) 5% (0.05) 10% (0.1)
Single Package Vertical ACs and HPs | Energy Efficiency Ratio Coefficient of Performance | 5% (0.05) 5% (0.05)
Packaged Terminal ACs and HPs | Energy Efficiency Ratio Coefficient of Performance | 5% (0.05) 5% (0.05)
Variable Refrigerant Flow ACs and HPs (Excluding Air-Cooled, Three-phase with Less Than 65,000 Btu/h Cooling Capacity) | Energy Efficiency Ratio Coefficient of Performance Integrated Energy Efficiency Ratio | 5% (0.05) 5% (0.05) 10% (0.1)
Computer Room Air Conditioners | Sensible Coefficient of Performance | 5% (0.05)
Direct Expansion-Dedicated Outdoor Air Systems | Integrated Seasonal Coefficient of Performance 2 Integrated Seasonal Moisture Removal Efficiency 2 | 10% (0.1) 10% (0.1)
Commercial Warm-Air Furnaces | Thermal Efficiency | 5% (0.05)
Commercial Refrigeration Equipment | Daily Energy Consumption | 5% (0.05)

* * * * *

22. Amend § 429.72 by reinstating paragraph (e) to read as follows:

§ 429.72 Alternative methods for determining non-energy ratings.

* * * * *

(e) Commercial gas-fired and oil-fired instantaneous water heaters and hot water supply boilers. The storage volume of a commercial gas-fired or oil-fired instantaneous water heater or a commercial gas-fired or oil-fired hot water supply boiler basic model may be determined by performing a calculation of the stored water volume based upon design drawings (including computer-aided design (CAD) models) or physical dimensions of the basic model. Any value of storage volume of a basic model reported to DOE in a certification of compliance in accordance with § 429.44(c)(2)(iv) and (v) must be calculated using the design drawings or physical dimensions, or measured as per the applicable provisions in the test procedures in 10 CFR 431.106. The storage volume determination must include all water contained within the water heater from the inlet connection to the outlet connection(s). The storage volume of water contained in the water heater must then be computed in gallons.

* * * * *

§ 429.134 [Amended]

23. Amend § 429.134 by removing paragraph (q)(5).

PART 431—ENERGY EFFICIENCY PROGRAM FOR CERTAIN COMMERCIAL AND INDUSTRIAL EQUIPMENT

24. The authority citation for part 431 continues to read as follows:

Authority: 42 U.S.C. 6291-6317; 28 U.S.C. 2461 note.

25. Amend § 431.2 by reinstating the definition of “Covered equipment” to read as follows:

§ 431.2 Definitions.

* * * * *

Covered equipment means any electric motor, as defined in § 431.12; commercial heating, ventilating, and air conditioning, and water heating product (HVAC & WH product), as defined in § 431.172; commercial refrigerator, freezer, or refrigerator-freezer, as defined in § 431.62; automatic commercial ice maker, as defined in § 431.132; commercial clothes washer, as defined in § 431.152; distribution transformer, as defined in § 431.192; illuminated exit sign, as defined in § 431.202; traffic signal module or pedestrian module, as defined in § 431.222; unit heater, as defined in § 431.242; commercial prerinse spray valve, as defined in § 431.262; mercury vapor lamp ballast, as defined in § 431.282; refrigerated bottled or canned beverage vending machine, as defined in § 431.292; walk-in cooler and walk-in freezer, as defined in § 431.302; metal halide ballast and metal halide lamp fixture, as defined in § 431.322.

* * * * *

26. Amend § 431.305 by reinstating paragraphs (a)(1) and (b)(1) to read as follows:

§ 431.305 Walk-in cooler and walk-in freezer labeling requirements.

(a) * * *

(1) Required information. The permanent nameplate of a walk-in cooler or walk-in freezer panel for which standards are prescribed in § 431.306 must be marked clearly with the following information:

(i) The panel brand or manufacturer; and

(ii) One of the following statements, as appropriate:

(A) “This panel is designed and certified for use in walk-in cooler applications.”

(B) “This panel is designed and certified for use in walk-in freezer applications.”

(C) “This panel is designed and certified for use in walk-in cooler and walk-in freezer applications.”

* * * * *

(b) * * *

(1) Required information. The permanent nameplate of a walk-in cooler or walk-in freezer door for which standards are prescribed in § 431.306 must be marked clearly with the following information:

(i) The door brand or manufacturer; and

(ii) One of the following statements, as appropriate:

(A) “This door is designed and certified for use in walk-in cooler applications.”

(B) “This door is designed and certified for use in walk-in freezer applications.”

(C) “This door is designed and certified for use in walk-in cooler and walk-in freezer applications.”

* * * * *

[FR Doc. 2025-17262 Filed 9-8-25; 8:45 am]

BILLING CODE 6450-01-P